SMALL BUSINESS ADMINISTRATION

National Women's Business Council

ACTION: Notice of open Federal advisory committee meeting.

SUMMARY: The SBA is issuing this notice to announce the location, date, time, and agenda for the next meeting of the National Women's Business Council (NWBC). The meeting will be open to the public.

DATES: The meeting will be held on August 14th, 2013 from approximately 9:00 a.m. to 11:30 a.m. PST.

ADDRESSES: The meeting will be in San Francisco, CA. The Location is to be decided. Please check www.nwbc.gov as details are announced.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator.

The purpose of the meeting is to provide updates on the NWBC's 2012 research agenda and action items for fiscal year 2014 included but not limited to procurement, access to capital, access to markets, veteran, young and high-growth women entrepreneurs. The topics to be discussed will include 2013 projects and 2014 goals and research.

FOR FURTHER INFORMATION CONTACT: The meeting is open to the public however advance notice of attendance is requested. Anyone wishing to attend or make a presentation to the NWBC must either email their interest to info@nwbc.gov or call the office number at 202-205-6827.

Those needing special accommodation in order to attend or participate in the meeting, please contact 202-205-6827 no later than August 7, 2013.

For more information, please visit our Web site at www.nwbc.gov.

Christopher R. Upperman,
Committee Management Officer and Special Advisor, Office of the Administrator.
Anie Borja,
Executive Director, National Women's Business Council.

[FR Doc. 2013-17625 Filed 7-22-13; 8:45 am]

BILLING CODE P